DEPARTMENT OF TRANSPORTATION

Federal Aviation Administration

14 CFR Part 39

[Docket No. FAA-2019-1078; Product Identifier 2019-NM-207-AD; Amendment 39-19822; AD 2020-01-16]

RIN 2120-AA64

Airworthiness Directives; Airbus SAS Airplanes

AGENCY: Federal Aviation Administration (FAA), DOT.

ACTION: Final rule; request for comments.

SUMMARY: The FAA is adopting a new airworthiness directive (AD) for all Airbus SAS Model A330-200 Freighter series airplanes, Model A330-200 series airplanes, Model A330-300 series airplanes, Model A340-200 series airplanes, Model A340-300 series airplanes, Model A340-541 airplanes, and Model A340-642 airplanes. This AD was prompted by the absence of a requirement to remove certain Emergency Procedures in the existing Aircraft Flight Manual (AFM) after accomplishing a certain modification. This AD requires, for airplanes on which a certain modification is done, revising the AFM by removing certain Emergency Procedures in the AFM, as specified in a European Union Aviation Safety Agency (EASA) AD, which is incorporated by reference. The FAA is issuing this AD to address the unsafe condition on these products.

DATES: This AD becomes effective February 21, 2020.

The Director of the Federal Register approved the incorporation by reference of a certain publication listed in this AD as of February 21, 2020.

We must receive comments on this AD by March 23, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For the material incorporated by reference (IBR) in this AD, contact the EASA, Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at https://www.regulations.gov by searching for and locating Docket No. FAA-2019-1078.

Examining the AD Docket

You may examine the AD docket on the internet at https://www.regulations.gov by searching for and locating Docket No. FAA-2019-1078; or in person at Docket Operations between 9 a.m. and 5 p.m., Monday through Friday, except Federal holidays. The AD docket contains this AD, the regulatory evaluation, any comments received, and other information. The street address for Docket Operations is listed above. Comments will be available in the AD docket shortly after receipt.

FOR FURTHER INFORMATION CONTACT: Vladimir Ulyanov, Aerospace Engineer, International Section, Transport Standards Branch, FAA, 2200 South 216th St., Des Moines, WA 98198; telephone and fax 206-231-3229; email Vladimir.Ulyanov@faa.gov.

SUPPLEMENTARY INFORMATION:

Discussion

The EASA, which is the Technical Agent for the Member States of the European Union, has issued EASA AD 2019-0312, dated December 20, 2019 (“EASA AD 2019-0312”) (also referred to as the Mandatory Continuing Airworthiness Information, or “the MCAI”), to correct an unsafe condition for all Airbus SAS Model A330-200 Freighter series airplanes; Model A330-200 series airplanes; Model A330-300 series airplanes; Model A340-200 series airplanes; Model A340-300 series airplanes; Airbus SAS Model A340-541 and -542 airplanes; and Airbus SAS Model A340-642 and -643 airplanes. Model A340-542 and -643 airplanes are not certified by the FAA and are not included on the U.S. type certificate data sheet; this AD therefore does not include those airplanes in the applicability.

This AD was prompted by the absence of a requirement to remove certain Emergency Procedures relating to the undue activation of Alpha Protection (Alpha Prot) in the existing AFM after accomplishing the AFM revision specified in AD 2014-25-52, Amendment 39-18066 (80 FR 3161, January 22, 2015) (“AD 2014-25-52”). The FAA is issuing this AD to address this condition, which, under certain conditions, could lead to the incorrect application of the procedure by the flight crew, possibly resulting in increased flight crew workload and consequent reduced control of the airplane. See the MCAI for additional background information.

Relationship Between This AD and AD 2014-25-52, AD 2016-12-15, Amendment 39-18564 (81 FR 40160, June 21, 2016) (“AD 2016-12-15”), and AD 2018-21-07, Amendment 39-19465 (83 FR 51825, October 15, 2018) (“AD 2018-21-07”)

AD 2014-25-52 requires revising the AFM to incorporate procedures to advise the flight crew of emergency procedures for abnormal Alpha Prot. AD 2016-12-15, requires, among other things, replacement of certain angle of attack (AOA) sensors with certain new AOA sensors to prevent erroneous AOA information and Alpha Prot activation due to blocked AOA probes. AD 2016-12-15 also allows the installation of certain alternative parts provided certain conditions are met. AD 2016-12-15 does not specify to remove the Emergency Procedures in the existing AFM after accomplishing the AOA replacement. AD 2018-21-07 requires upgrading certain flight control primary computer (FCPC) software standards, and did specify to remove the Emergency Procedures in the existing AFM after accomplishing the upgrade, but only for airplanes with a certain AOA configuration. This AD requires, for airplanes on which a certain modification is done, revising the AFM by removing Emergency Procedures relating to the undue activation of Alpha Prot from the existing AFM. Accomplishment of this AD on an airplane then terminates the AFM revision required by paragraph (g) of AD 2014-25-52 for that airplane only.

Related IBR Material Under 1 CFR Part 51

EASA AD 2019-0312 describes procedures, for airplanes on which a certain modification (replacement of certain AOA sensors, and modification or replacement of software standards for certain FCPCs) is done, for revising the existing AFM by removing Emergency Procedures relating to the undue activation of Alpha Prot from the existing AFM. This material is reasonably available because the interested parties have access to it through their normal course of business or by the means identified in the ADDRESSES section.

FAA's Determination

This product has been approved by the aviation authority of another country, and is approved for operation in the United States. Pursuant to a bilateral agreement with the State of Design Authority, the FAA has been notified of the unsafe condition described in the MCAI referenced above. The FAA is issuing this AD because the agency evaluated all pertinent information and determined the unsafe condition exists and is likely to exist or develop on other products of the same type design.

Requirements of This AD

This AD requires accomplishing the actions specified in EASA AD 2019-0312 described previously, as incorporated by reference, except for any differences identified as exceptions in the regulatory text of this AD and except as discussed under “Differences Between This AD and the MCAI.”

Explanation of Required Compliance Information

In the FAA's ongoing efforts to improve the efficiency of the AD process, the FAA initially worked with Airbus and EASA to develop a process to use certain EASA ADs as the primary source of information for compliance with requirements for corresponding FAA ADs. The FAA has since coordinated with other manufacturers and civil aviation authorities (CAAs) to use this process. As a result, EASA AD 2019-0312 will be incorporated by reference in the FAA final rule. This AD, therefore, requires compliance with EASA AD 2019-0312 in its entirety, through that incorporation, except for any differences identified as exceptions in the regulatory text of this AD. Using common terms that are the same as the heading of a particular section in the EASA AD does not mean that operators need to comply only with that section. For example, where the AD requirement refers to “all required actions and compliance times,” compliance with this AD requirement is not limited to the section titled “Required Action(s) and Compliance Time(s)” in the EASA AD. Service information specified in EASA AD 2019-0312 that is required for compliance with EASA AD 2019-0312 will be available on the internet at https://www.regulations.gov by searching for and locating Docket No. FAA-2019-1078 after the FAA final rule is published.

Differences Between This AD and the MCAI

Where Table 1 of EASA AD 2019-0312 requires actions for “Airbus A330 MRTT airplanes” (Airbus SAS Model A330-200 airplanes that were modified in production by Airbus into a multi-role transport tanker (MRTT) configuration), these actions are not applicable to this AD since A330 MRTT airplanes are not certified by the FAA and are not included on the U.S. type certificate data sheet.

Table 1 of EASA AD 2019-0312 references EASA AD 2019-0028, dated February 7, 2019 (“EASA AD 2019-0028”) for determining configuration. EASA AD 2019-0028 is applicable only to Airbus SAS Model A340 series airplanes. There are no U.S. registered Model A340 airplanes, so EASA AD 2019-0028 was added to the Required Airworthiness Actions List (RAAL). As a result, there is no corresponding FAA AD to EASA AD 2019-0028, but U.S. operators are still required to show compliance with EASA AD 2019-0028 if they import an airplane that is affected by EASA AD 2019-0028.

FAA's Justification and Determination of the Effective Date

An unsafe condition exists that requires the immediate adoption of this AD without providing an opportunity for public comments prior to adoption. The FAA has found that the risk to the flying public justifies waiving notice and comment prior to adoption of this rule because it has been determined that for airplanes on which a certain modification is done, the AFM procedure required by AD 2014-25-52 if not removed, could, under certain conditions, lead to the incorrect application of the procedure by the flight crew, possibly resulting in increased flight crew workload and consequent reduced control of the airplane. In addition, the removal of these AFM emergency procedures for applicable airplanes is relieving on the flight crew workload during an emergency situation. Therefore, the FAA finds good cause that notice and opportunity for prior public comment are impracticable. In addition, for the reasons stated above, the FAA finds that good cause exists for making this amendment effective in less than 30 days.

Regulatory Flexibility Act (RFA)

The requirements of the RFA do not apply when an agency finds good cause pursuant to 5 U.S.C. 553 to adopt a rule without prior notice and comment. Because the FAA has determined that it has good cause to adopt this rule without notice and comment, RFA analysis is not required.

Comments Invited

This AD is a final rule that involves requirements affecting flight safety, and the FAA did not precede it by notice and opportunity for public comment. The FAA invites you to send any written relevant data, views, or arguments about this AD. Send your comments to an address listed under the ADDRESSES section. Include “Docket No. FAA-2019-1078; Product Identifier 2019-NM-207-AD” at the beginning of your comments. The FAA specifically invites comments on the overall regulatory, economic, environmental, and energy aspects of this AD. The FAA will consider all comments received by the closing date and may amend this AD based on those comments.

We will post all comments received, without change, to https://www.regulations.gov, including any personal information you provide. The FAA will also post a report summarizing each substantive verbal contact received about this AD.

Costs of Compliance

The FAA estimates that this AD affects 103 airplanes of U.S. registry. The FAA estimates the following costs to comply with this AD:

Estimated Costs for Required Actions
Labor cost | Parts cost | Cost per product | Cost on U.S. operators
1 work-hour × $85 per hour = $85 | $0 | $85 | $8,755

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended],

2. The FAA amends § 39.13 by adding the following new airworthiness directive (AD):

2020-01-16 Airbus SAS: Amendment 39-19822; Docket No. FAA-2019-1078; Product Identifier 2019-NM-207-AD.

(a) Effective Date

This AD becomes effective February 21, 2020.

(b) Affected ADs

This AD affects AD 2014-25-52, Amendment 39-18066 (80 FR 3161, January 22, 2015) (“AD 2014-25-52”).

(c) Applicability

This AD applies to all Airbus SAS airplanes identified in paragraphs (c)(1) through (7) of this AD, certificated in any category.

(1) Model A330-223F and -243F airplanes.

(2) Model A330-201, -202, -203, -223, and -243 airplanes.

(3) Model A330-301, -302, -303, -321, -322, -323, -341, -342, and -343 airplanes.

(4) Model A340-211, -212, and -213 airplanes.

(5) Model A340-311, -312, and -313 airplanes.

(6) Model A340-541 airplanes.

(7) Model A340-642 airplanes.

(d) Subject

Air Transport Association (ATA) of America Code 34, Navigation.

(e) Reason

This AD was prompted by the absence of a requirement to remove certain Emergency Procedures in the existing Aircraft Flight Manual (AFM) after accomplishing a certain modification. The FAA is issuing this AD to address this condition, which, under certain conditions, could lead to the incorrect application of the procedure by the flight crew, possibly resulting in increased flight crew workload and consequent reduced control of the airplane.

(f) Compliance

Comply with this AD within the compliance times specified, unless already done.

(g) Requirements

Except as specified in paragraph (h) of this AD: Comply with all required actions and compliance times specified in, and in accordance with, EASA AD 2019-0312, dated December 20, 2019 (“EASA AD 2019-0312”).

(h) Exceptions to EASA AD 2019-0312

(1) Where EASA AD 2019-0312 refers to its effective date, this AD requires using the effective date of this AD.

(2) The “Remarks” section of EASA AD 2019-0312 does not apply to this AD.

(3) Where paragraph (1) of EASA AD references EASA Emergency AD 2014-0267-E, for this AD use paragraph (g) of AD 2014-25-52, Amendment 39-18066 (80 FR 3161, January 22, 2015).

(4) Where Table 1 of EASA AD 2019-0312 specifies paragraph (10) of EASA AD 2015-0134 for Airbus SAS Model A330 and Airbus SAS Model A340 airplane configurations, for this AD, use paragraph (m)(2) of AD 2016-12-15, Amendment 39-18564 (81 FR 40160, June 21, 2016).

(5) Where Table 1 of EASA AD 2019-0312 specifies paragraph (1) and Table 2 of EASA AD 2017-0246R1 for Airbus SAS Model A330 airplane configurations, for this AD, use paragraph (h) and Figure 1 to paragraph (i) of AD 2018-21-07, Amendment 39-19465 (83 FR 51825, October 15, 2018).

(6) Where Table 1 of EASA AD 2019-0312 requires actions for Airbus A330 MRTT aircraft, these actions are not applicable to this AD.

(i) Terminating Action for AD 2014-25-52

Accomplishing the actions required by this AD on an airplane terminates all requirements of paragraph (g) of AD 2014-25-52 for that airplane only.

(j) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (k) of this AD. Information may be emailed to: 9-ANM-116-AMOC-REQUESTS@faa.gov. Before using any approved AMOC, notify your appropriate principal inspector, or lacking a principal inspector, the manager of the local flight standards district office/certificate holding district office.

(i) Before using any approved AMOC, notify your appropriate principal inspector, or lacking a principal inspector, the manager of the local flight standards district office/certificate holding district office.

(ii) AMOC letter AIR-676-18-239, dated May 14, 2018, approved previously for AD 2014-25-52, is approved as AMOC for the corresponding provisions of this AD.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2019-0312 that contains RC procedures and tests: Except as required by paragraph (j)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

For more information about this AD, contact Vladimir Ulyanov, Aerospace Engineer, International Section, Transport Standards Branch, FAA, 2200 South 216th St., Des Moines, WA 98198; telephone and fax 206-231-3229; email Vladimir.Ulyanov@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2019-0312, dated December 20, 2019.

(ii) [Reserved]

(3) For information about EASA AD 2019-0312, contact the EASA, Konrad-Adenauer-Ufer 3, 50668 Cologne, Germany; telephone +49 221 89990 6017; email ADs@easa.europa.eu; internet www.easa.europa.eu. You may find this EASA AD on the EASA website at https://ad.easa.europa.eu.

(4) You may view this material at the FAA, Transport Standards Branch, 2200 South 216th St., Des Moines, WA. For information on the availability of this material at the FAA, call 206-231-3195. This material may be found in the AD docket on the internet at https://www.regulations.gov by searching for and locating Docket No. FAA-2019-1078.

(5) You may view this material that is incorporated by reference at the National Archives and Records Administration (NARA). For information on the availability of this material at NARA, email fedreg.legal@nara.gov, or go to: https://www.archives.gov/federal-register/cfr/ibr-locations.html.

Issued on January 16, 2020.
Michael Kaszycki,
Acting Director, System Oversight Division, Aircraft Certification Service.

[FR Doc. 2020-02200 Filed 2-5-20; 8:45 am]

BILLING CODE 4910-13-P